TENNESSEE VALLEY AUTHORITY

Supplemental Environmental Impact Statement: Completion of Watts Bar Nuclear Plant Unit 2

AGENCY: Tennessee Valley Authority.

ACTION: Notice of Intent.

SUMMARY: This notice is provided in accordance with the Council on Environmental Quality's (CEQ) regulations (40 CFR parts 1500-1508) and TVA's procedures for implementing the National Environmental Policy Act. The Tennessee Valley Authority (TVA) will prepare a Supplemental Environmental Impact Statement (EIS) to update information and address the potential environmental impacts associated with its proposal to complete the Watts Bar Nuclear Plant (WBN) Unit 2 located in Rhea County, Tennessee. Completion of WBN Unit 2 would help address the need for additional baseload generation in the power service area of the Tennessee Valley Authority and make use of that unfinished asset.

DATES: Comments on the draft Supplemental EIS will be invited from the public. It is anticipated that the draft Supplemental EIS will be available in the spring of 2007.

ADDRESSES: Information about the Supplemental EIS process can be obtained by contacting Bruce L. Yeager, NEPA Program Manager, NEPA Policy, Environmental Stewardship and Policy, Tennessee Valley Authority, 400 West Summit Hill Drive, Mail Stop WT 11B-K, Knoxville, Tennessee 37902 (e-mail: blyeager@tva.gov).

FOR FURTHER INFORMATION CONTACT: James Chardos, Project Manager, Nuclear Generation Development at Tennessee Valley Authority, Mail Stop ADM 1V-WBN, Chattanooga, Tennessee 37402 (e-mail: jschardos@tva.gov).

SUPPLEMENTARY INFORMATION: TVA operates the largest public power system in the country. It provides electricity to more than 8.5 million people in parts of seven southeastern states. It also serves 650,000 businesses and industries in this region, including 61 large industrial and federal facilities. TVA currently has 33,000 megawatts of dependable generating capacity on its system. This capacity consists of three nuclear plants, 11 coal-fired plants, six combustion-turbine plants, 29 hydroelectric dams, one pump-storage facility, the southeast's largest wind turbine installation, and one methane-gas capture facility. Slightly more than 60 percent of TVA's installed generating capacity is coal, almost 30 percent is nuclear, and the remaining 10 percent is hydro and other renewable energy resources and combustion turbines.

Demand for electricity in the TVA Power Service Area is growing at the rate of approximately 2 percent per year. In 2005, demand for electricity from the TVA system exceeded the previous all-time high demand (peak demand) on the system twice. To meet this growing demand TVA anticipates having to add additional baseload capacity to its system by no later than the 2012-2014 timeframe. Completing TVA's partially-constructed WBN Unit 2 would not only help meet this growing need for generation but also make use of that unfinished asset. TVA is further supplementing the original 1972 Environmental Statement for the plant and updating pertinent information discussed and evaluated in the related documents identified below to inform decision makers about the potential for environmental impacts that would be associated with a decision to complete and operate WBN Unit 2. On July 28, 2006, the TVA Board of Directors also authorized staff to conduct a comprehensive Detailed, Scoping, Estimating and Planning (DSEP) study to evaluate the cost and schedule for completing WBN Unit 2.

WBN is located on 1,700 acres at the northern end of Chickamauga Reservoir about 8 miles from Spring City, Tennessee. The Atomic Energy Commission (AEC) issued construction permits (now the responsibility of the Nuclear Regulatory Commission (NRC)) for the two-unit, 2,540 MW plant in January of 1973. In 1985, TVA halted construction activities for WBN in order to address safety concerns. Due to these construction delays, WBN Unit 1 did not begin commercial operation until May 1996. The plant currently has one Westinghouse pressurized-water reactor with a capacity of 1,167 megawatts—enough electricity to supply about 650,000 homes a day. WBN Unit 2 was approximately 60 percent complete when construction was halted in 1985.

Summary of Relevant Environmental Reviews

In 1972, TVA released a Final EIS that reviewed the potential environmental and socioeconomic impacts of constructing and operating the two-unit plant (WBN Units 1 and 2). TVA updated the WBN EIS in November 1976 and submitted additional environmental information and analyses to NRC in an Environmental Information Supplement in 1977. In December of 1978, NRC issued its Final EIS, NUREG-0498 related to the licensing of the two-unit plant.

In 1993, TVA conducted a thorough review of the TVA and NRC documents to determine if additional environmental review was needed to inform decisions about whether or not to complete WBN Units 1 and 2. The 1993 TVA review, focusing on ten sections of the earlier documents, concluded that neither the plant design nor environmental conditions had changed in a manner that materially altered the environmental impact analysis set forth in the earlier EIS. In 1994, TVA provided additional analyses and information in support of NRC's issuance of a Supplemental EIS. That Supplemental EIS, issued by NRC in 1995, similarly concluded that there were no significant changes in the potential environmental impacts of WBN 1 and 2 since the 1978 Final Environmental Statement issued by the NRC. Following independent review of the adequacy of the analyses and document, in July of 1995 TVA adopted the 1995 NRC final Supplemental EIS for the completion of WBN Unit 1. In August 1995, TVA issued a ROD stating the agency decision to complete WBN Unit 1. In 1998, TVA prepared an Environmental Assessment (EA) and Finding of No Significant Impact (FONSI) for a project to provide supplemental condenser cooling water to WBN for the purpose of increasing power generation from Unit 1 that was constrained by cooling tower performance.

TVA participated as a cooperating agency with the Department of Energy (DOE) on an environmental review evaluating the production of tritium at one or more commercial light water reactors (CLWRs) to ensure safe and reliable tritium supply for U.S. defense needs. In March 1999, the Secretary of the DOE designated the TVA Watts Bar and Sequoyah Nuclear Plants as the Preferred Alternative for CLWR tritium production in the CLWR EIS. DOE issued its Record of Decision (ROD) in May of 1999. TVA subsequently issued its own Notice of Adoption and ROD for the Final EIS in May of 2000. Tritium production subsequently began at WBN Unit 1 in 2003. TVA's proposed completion and operation of WBN Unit 2 does not include provision for tritium production, however pertinent information on spent nuclear fuel management is included in the CLWR EIS. As appropriate, TVA intends to incorporate, utilize, and update information from these earlier plant-specific analyses for the present Supplemental EIS.

In December 1995, TVA also completed a comprehensive environmental review of alternative means of meeting demand for power on the TVA system through the year 2020. This review was in the form of a Final EIS titled the Integrated Resource Plan —Energy Vision 2020. Completion of WBN Unit 2 was evaluated in this Final EIS. To address future demand for electricity, TVA decided to rely on a portfolio of energy resource options, including new generation and conservation. Because of uncertainties about performance and cost, completion of WBN Unit 2 was not included in the portfolio of resource options. In the Integrated Resource Plan, TVA made conservative assumptions about the capacity factor (roughly how much a unit would be able to run) nuclear units generally would achieve and this capacity factor was used in conducting the economic analyses of nuclear resource options. TVA nuclear units, consistent with U.S. nuclear industry performance, now routinely exceed this earlier assumed capacity factor, which changes the earlier analyses and will be taken into account in the current consideration of completing WBN Unit 2.

In February of 2004, TVA issued a Final EIS for its Reservoir Operations Study (ROS) evaluating the potential environmental impacts of alternative ways for operating the agency's reservoir system to produce overall greater public value for the people of the Tennessee Valley. That Final EIS review included provision of adequate water supply for reliable, efficient operation of TVA generating facilities, such as WBN, within their operating limits of National Pollutant Discharge Elimination System (NPDES) and other permits. A ROD for the ROS Final EIS was subsequently issued in May of 2004.

TVA will incorporate assumptions for reservoir operations resulting from the ROS Final EIS review in the present evaluation.

Proposed Action and Need for Power

The proposal under consideration by TVA is to meet the demand for additional baseload capacity on the TVA system and maximize the use of existing assets by completing and operating WBN Unit 2 alongside its sister unit, WBN Unit 1 that has been operating since 1996. The environmental impacts of other energy resource options were evaluated as part of TVA's Energy Vision 2020 Final EIS. As part of the present supplemental environmental review, TVA will update the Need for Power analysis, as well as consider any new environmental information.

Preliminary Identification of Environmental Issues

This Supplemental EIS will discuss the need to complete WBN Unit 2 and will update information on existing environmental, cultural, recreational, and socioeconomic resources, as appropriate. The Supplemental EIS will also update the analysis of potential environmental impacts resulting from construction, operation, and maintenance of WBN Unit 2, and the total impacts occurring with concurrent operation of WBN Unit 1. The update of potential environmental impacts will include, but not necessarily be limited to, the potential impacts on water quality, vegetation, wildlife, aquatic ecology, endangered and threatened species, floodplains, wetlands, land use, cultural and historic resources, socioeconomics, spent fuel management, and radiological impacts, as well as an analysis of severe accident mitigation alternatives. Information from TVA's and NRC's previous environmental reviews (described above) that is relevant to the current assessment would be incorporated by reference and appropriately summarized in the Supplemental EIS.

Public and Agency Participation

This Supplemental EIS is being prepared to update information and to inform decision-makers and the public about the potential environmental impacts of completing and operating WBN Unit 2. The Supplemental EIS process also will provide the public an opportunity to comment on TVA's analyses. Other federal, state, and local agencies and governmental entities will be asked to comment, including the U.S. Army Corps of Engineers, U.S. Fish and Wildlife Service, and the Tennessee Department of Environmental and Conservation.

TVA will invite the public and agencies to submit written, verbal or e-mail comments on the draft Supplemental EIS. It is anticipated the draft Supplemental EIS will be released in the spring of 2007. Notice of availability of the Supplemental EIS will be published in the Federal Register, as well as announced in local news media. TVA expects to release a final Supplemental EIS in the summer of 2007.

Dated: November 28, 2006.
Kathryn J. Jackson,
Executive Vice President, River System Operations & Environment.

[FR Doc. E6-20761 Filed 12-6-06; 8:45 am]

BILLING CODE 8120-08-P